SOCIAL SECURITY ADMINISTRATION

[Docket No. SSA-2012-0071]

Social Security Ruling, SSR 13-1p; Titles II and XVI: Agency Processes for Addressing Allegations of Unfairness, Prejudice, Partiality, Bias, Misconduct, or Discrimination by Administrative Law Judges (ALJs); Correction

AGENCY: Social Security Administration.

ACTION: Notice of Social Security Ruling; Correction.

SUMMARY: The Social Security Administration published a document in the Federal Register of January 29, 2013, in FR Doc. 2013-01833, on page 6168, in the third column; correct the DATES caption to read:

DATES: Effective Date: February 28, 2013.

Paul Kryglik,
Director, Office of Regulations, Social Security Administration.

[FR Doc. 2013-03126 Filed 2-11-13; 8:45 am]

BILLING CODE 4191-02-P